DEPARTMENT OF JUSTICE

Federal Bureau of Investigation

[OMB Number 1110-NEW]

Agency Information Collection Activities: New Collection, Comments Requested

ACTION: 30-day Notice of Information Collection Under Review: New collection; InfraGard Knowledge/Skills/Abilities Profile Questionnaire.

The Department of Justice, Federal Bureau of Investigation, Criminal Justice Information Services Division will be submitting the following information collection requests to the Office of Management and Budget (OMB) for review and clearance in accordance with the emergency review procedures of the Paperwork Reduction Act of 1995. The proposed information collection is published to obtain comments from the public and affected agencies. This proposed information collection was previously published in the Federal Register on January 8, 2010, Volume 75, Number 5, Pages 1084, allowing for a 60 day comment period.

The purpose of this notice is to allow for an additional 30 days for public comment until March 29, 2010. This process is conducted in accordance with 5 CFR 1320.10.

Written comments and/or suggestions regarding the items contained in this notice, especially the estimated public burden and associated response time, should be directed to Douglas Dvorak, Supervisory Special Agent, Federal Bureau of Investigation, Cyber Division, 935 Pennsylvania Avenue, NW., Washington, DC 20535, (202) 651-3269.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: New collection.

(2) The title of the form/collection: InfraGard Knowledge/Skills/Abilities Profile Questionnaire.

(3) The agency form number, if any, and the applicable component of the department sponsoring the collection: Form Number: None; Sponsor: Criminal Justice Information Services Division, Federal Bureau of Investigation, Department of Justice.

(4) Affected public who will be asked or required to respond, as well as a brief abstract: Primary: Public and private professionals self-identified as having information technology expertise. Brief Abstract: InfraGard is a public/private alliance as mandated in Presidential Decision Directive 63. This form is used to classify members according to their expertise.

(5) An estimate of the total number of respondents and the amount of time estimated for an average respondent to respond: There are approximately 28,000 InfraGard members, for a total of 28,000 responses with an estimated response time of two minutes per response.

(6) An estimate of the total public burden (in hours) associated with this collection: There are approximately 917 hours, annual burden, associated with this information collection.

If additional information is required contact: Ms. Lynn Bryant, Department Clearance Officer, Policy and Planning Staff, Justice Management Division, United States Department of Justice, Patrick Henry Building, Suite 1600, 601 D Street, NW., Washington, DC 20530.

Dated: February 23, 2010.
Lynn Bryant,
Department Clearance Officer, PRA, United States Department of Justice.

[FR Doc. 2010-4050 Filed 2-25-10; 8:45 am]

BILLING CODE 4410-02-P